DEPARTMENT OF TRANSPORTATION

Surface Transportation Board

[Docket No. FD 35980]

Reading Blue Mountain & Northern Railroad Company—Trackage Rights Exemption—Norfolk Southern Railway Company

Norfolk Southern Railway Company (NSR), pursuant to two amendments to an existing trackage rights agreement (the Base Agreement), has agreed to grant Reading Blue Mountain & Northern Railroad Company (RBMN) additional trackage rights over approximately 6.1 miles of rail line (the Line), between milepost JW 147.4 at Oneida Jct., Pa., and milepost JW 141.3 ± at Ashmore, Jct., Pa.¹ The two amendments grant RBMN limited local and additional overhead trackage rights, in addition to the overhead trackage rights originally granted in the Base Agreement, for RBMN to provide service over the Line at two different intermediate points. Specifically, Amendment No. 2 provides RBMN with the right to enter and exit the Line at milepost JW 143.7 to serve a coal customer; Amendment No. 3 will provide RBMN with the right to enter and exit the Line at a point shown on the map attached to the notice and use NSR's connecting industrial track to milepost KA 150± (the RBMN/NSR property line) at Humboldt Industrial Park to provide service to customers in a connected industrial park.²

¹ The Base Agreement was between East Mahanoy and Hazleton Railroad Company (EMHR) and Consolidated Rail Corporation (Conrail); it granted EMHR overhead trackage rights (authorized as incidental trackage rights) over the Line. See E. Mahanoy & Hazleton R.R.—Acquis. & Operation Exemption—Consolidated Rail Corp., FD 32076 (ICC served July 15, 1992). The Base Agreement was first amended by a letter agreement in 1997. RBMN is the successor to EMHR, and NSR is the successor-in-interest to Conrail.

² Amendment No. 2 was signed and dated on December 11, 2011, but RBMN states that it has yet to use these additional trackage rights, as the switch was installed last month, and the sidetrack to the customer is still under construction. RBMN states that Amendment No. 3 has not yet been executed.

RBMN may consummate the transaction on or after December 25, 2015, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by December 18, 2015 (at least seven days before the exemption becomes effective).

An original and 10 copies of all pleadings, referring to Docket No. FD 35980, must be filed with the Surface Transportation Board, 395 E Street SW., Washington, DC 20423-0001. In addition, a copy of each pleading must be served on Eric M. Hocky, Clark Hill, PLC, One Commerce Square, 2005 Market St., Suite 1000, Philadelphia, PA 19103.

Board decisions and notices are available on our Web site at “WWW.STB.DOT.GOV.”

Decided: December 8, 2015.
By the Board, Rachel D. Campbell, Director, Office of Proceedings.
Kenyatta Clay,
Clearance Clerk.

[FR Doc. 2015-31258 Filed 12-10-15; 8:45 am]

BILLING CODE 4915-01-P